DEPARTMENT OF HOUSING AND URBAN DEVELOPMENT

[Docket No. FR-4650-N-08]

Submission for OMB Review: Multifamily Housing Rehabilitation Loan Program for Capital Repairs

AGENCY: Office of the Assistant Secretary for Housing, HUD.

ACTION: Notice of proposed information collection requirement.

SUMMARY: The Department of Housing and Urban Development (HUD) is publishing a Housing Notice which enables qualified owners to submit applications, subject to HUD review, for a loan to address the rehabilitation and repair needs of aging multifamily properties. To determine whether a project is qualified to receive funding, HUD will be collecting information from those applicants that wish to participate. The proposed information collection requirement has been submitted to the Office of Management and Budget (OMB) for review as required by the Paperwork Reduction Act.

DATES: Submit comments on or before: January 29, 2001.

ADDRESSES: Interested persons are invited to submit comments regarding this proposal. Comments should refer to the proposal by name and/or OMB Control Number and should be sent to:

Joseph F. Lackey, Jr., HUD Desk Officer, Office of Management and Budget, New Executive Office Building, Washington, DC 20503.

FOR FURTHER INFORMATION CONTACT: Wayne Eddins, Reports Management Officer, Department of Housing and Urban Development, 451 Seventh Street, SW, Washington, DC 20410, telephone (202) 708-2374 (This is not a toll-free number) or e-mail to Wayne_Eddins@HUD.gov. Copies of the available documents submitted to OMB may be obtained from Mr. Eddins.

SUPPLEMENTARY INFORMATION: The Department has submitted the proposal for the collection of information, as described below, to OMB for review as required by the Paperwork Reduction Act (44 USC Chapter 35). HUD has requested OMB approval by April 29, 2000.

An agency may not conduct or sponsor, and a person is not required to respond to, a collection of information unless collection displays a valid control number.

This notice contains the following information:

(1) The title for the collection of information;

(2) A summary of the collection of information;

(3) A brief description of the need for the information and proposed use of the information;

(4) A description of the likely respondents, including the estimated number of likely respondents, and proposed frequency of response to the collection of information;

(5) An estimate of the total annual reporting and recordkeeping burden that will result from the collection of information;

Title: Multifamily Housing Rehabilitation Loan Program for Capital Repairs

OMB Control Number: 2502-

Type of submission: Owners of eligible projects (applicants) will be required to submit to HUD information to show that the project meets the basic eligibility criteria, that rehabilitation is necessary to address the physical needs that exist at the property, and that they do not have the financial resources available to address these needs. These requirements will enable eligible applicants to take advantage of a loan that will enable them to resolve the physical deficiencies at the property.

The information includes (a) an application cover letter and description of the proposed use of funds; (b) a worksheet that demonstrates the calculation of the loan amount; (c) an updated Comprehensive Needs Assessment (CNA) including HUD Forms 96001, 96002, and 96003; (d) the project's REAC physical and financial assessment scores; and (e) for profit-motivated owners, evidence of their minimum contribution towards the total cost of the rehabilitation.

Need and use of the information: The information will be used in order to demonstrate the need for assistance in order to correct the physical deficiencies of the property. The Department will review the information to determine whether the basic eligibility criteria is met, if a loan is needed for rehabilitation of the project, and that the project income is not sufficient to support the rehabilitation. Form Number(s): HUD Forms 96001, 96002, 96003.

Respondents: Multifamily property owners, primarily nonprofit entities.

Reporting Burden:

Number of respondents | × | Frequency of response | × | Hours per response | = | Total burden hours
400 |  | 1 |  | 4-24 |  | 1600-9600

Contact: Eileen Hearty, HUD (202-708-2866, ext. 2641), Joseph Lackey, OMB, (202) 395-7316.

Authority: Section 3507 of the Paperwork Reduction Act of 1995, 44 U.S.C. Chapter 35, as amended.

Dated: January 16, 2001.
Wayne Eddins,
Reports Management Officer, Office of the Chief Information Officer.

[FR Doc. 01-1840 Filed 1-19-01; 8:45 am]

BILLING CODE 4210-01-M